DEPARTMENT OF VETERANS AFFAIRS

[OMB Control No. 2900-NEW]

Agency Information Collection Activity Under OMB Review (Application for Approval of a Program in a Foreign Country, VA Form 22-0976)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before April 6, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW” in any correspondence.

FOR FURTHER INFORMATION CONTACT: Cynthia Harvey-Pryor, (005R1B), Department of Veterans Affairs, 810 Vermont Avenue NW., Washington, DC 20420, (202) 461-5870 or FAX (202) 632-8925, or email cynthia.harvey-pryor@va.gov. Please refer to “OMB Control No. 2900-NEW.”

SUPPLEMENTARY INFORMATION: Title: Application for Approval of a Program in a Foreign Country, VA Form 22-0976.

OMB Control Number: 2900-NEW.

Type of Review: New Information Collection Request.

Abstract: This form (VA Form 22-0976) is used by foreign educational institutions seeking approval for their postsecondary programs. VA uses the information to determine if a program offered by the foreign educational institution is approvable under CFR 21.4260.

An agency may not conduct or sponsor, and a person is not required to respond to a collection of information unless it displays a currently valid OMB control number. The Federal Register Notice with a 60-day comment period soliciting comments on this collection of information was published at Volume 81, No. 213, Thursday, November 3, 2016, pages 76698 and 76699.

Affected Public: Not-for-profit Institutions.

Estimated Annual Burden: 50.

Estimated Average Burden per Respondent: 20 minutes.

Frequency of Response: Once.

Estimated Number of Respondents: 150.

By direction of the Secretary.
Cynthia Harvey-Pryor,
Department Clearance Officer, Office of Privacy and Records Management, Department of Veterans Affairs.

[FR Doc. 2017-04431 Filed 3-6-17; 8:45 am]

BILLING CODE 8320-01-P